DEPARTMENT OF HEALTH AND HUMAN SERVICES

Meeting of the Presidential Advisory Council on HIV/AIDS

AGENCY: Office of the Assistant Secretary for Health, Office of the Secretary, Department of Health and Human Services.

ACTION: Notice.

SUMMARY: As stipulated by the Federal Advisory Committee Act, the U.S. Department of Health and Human Services (DHHS) is hereby giving notice that the Presidential Advisory Council on HIV/AIDS (PACHA) will hold a conference call. The call will be open to the public.

DATES: The call will be held January 7, 2013 at 1:00 p.m. (EST) to approximately 2:00 p.m. (EST).

ADDRESSES: The call-in number is 800-857-1237 and the participant pass code is 7293236.

FOR FURTHER INFORMATION CONTACT: Ms. Caroline Talev, Public Health Assistant, Presidential Advisory Council on HIV/AIDS, Department of Health and Human Services, 200 Independence Avenue SW., Room 443H, Hubert H. Humphrey Building, Washington, DC 20201; (202) 205-1178. More detailed information about PACHA can be obtained by accessing the Council's Web site www.aids.gov/pacha.

SUPPLEMENTARY INFORMATION: PACHA was established by Executive Order 12963, dated June 14, 1995 as amended by Executive Order 13009, dated June 14, 1996. The Council was established to provide advice, information, and recommendations to the Secretary regarding programs and policies intended to promote effective prevention of HIV disease and AIDS. The functions of the Council are solely advisory in nature.

The Council consists of not more than 25 members. Council members are selected from prominent community leaders with particular expertise in, or knowledge of, matters concerning HIV and AIDS, public health, global health, philanthropy, marketing or business, as well as other national leaders held in high esteem from other sectors of society. Council members are appointed by the Secretary or designee, in consultation with the White House Office on National AIDS Policy. The agenda for the upcoming meeting will be posted on the Council's Web site at www.aids.gov/pacha.

Pre-registration for the call is advisable and can be accomplished by contacting Caroline Talev at caroline.talev@hhs.gov. Members of the public will have the opportunity to listen in on the phone call.

Dated: December 3, 2012.
B. Kaye Hayes,
Executive Director, Presidential Advisory Council on HIV/AIDS.

[FR Doc. 2012-30026 Filed 12-11-12; 8:45 am]

BILLING CODE 4150-43-P